COMMISSION ON CIVIL RIGHTS

Notice of Public Meeting of the Mississippi Committee; Revision

AGENCY: Commission on Civil Rights.

ACTION: Notice; revision of meeting date for March 18, 2025.

SUMMARY: The Commission on Civil Rights published a notice in the Federal Register on Monday, March 3, 2025, concerning a meeting of the Mississippi Advisory Committee. For March 18, 2025, the meeting date has been revised to April 3, 2025.

FOR FURTHER INFORMATION CONTACT: David Barreras, dbarreras@usccr.gov or 1-202-656-8937.

Revision: In the Federal Register on Monday, March 3, 2025, in FR Document Number 2025-03354, on page 11038, in the first column, correct the meeting date to: Thursday, April 3, 2025, from 2:00 p.m.-4:00 p.m. (CST).

Dated: March 17, 2025.
David Mussatt,
Supervisory Chief, Regional Programs Unit.

[FR Doc. 2025-04812 Filed 3-20-25; 8:45 am]

BILLING CODE P